ENVIRONMENTAL PROTECTION AGENCY

[OPPT-00290; FRL-6493-6]

Forum on State and Tribal Toxics Action (FOSTTA); Open Meetings

AGENCY: Environmental Protection Agency (EPA).

ACTION: Notice of public meeting.

SUMMARY: Four projects of the Forum on State and Tribal Toxics Action (FOSTTA) will hold meetings March 6-7, 2000. This notice announces the location and times for the meetings and sets forth some tentative agenda topics. The National Conference of State Legislatures (NCSL) and the Environmental Protection Agency (EPA) are co-sponsoring the meetings. As part of a co-sponsorship agreement, NCSL facilitates ongoing efforts of the States and Tribes to identify, discuss, and address toxics-related issues, and to continue the dialogue on how Federal environmental programs can best be implemented.

DATES: The four projects will meet concurrently March 6, 2000, from 8 a.m. to 5 p.m. and March 7, 2000, from 8 a.m. to noon. A panel discussion on environmental justice issues will be held at the plenary session on Monday, March 6, 2000, from 8 a.m. to 9:30 a.m.

ADDRESSES: The meetings will be held at the Key Bridge Marriott Hotel, 1401 Lee Highway, Arlington, VA, 22209. The hotel is about three blocks from the Rosslyn Metro Station.

FOR FURTHER INFORMATION CONTACT: George Hagevik, National Conference of State Legislatures, 1560 Broadway, Suite 700, Denver, CO 80202; telephone: (303) 839-0273 and FAX: (303) 863-8003; e-mail: george.hagevik@ncsl.org or Darlene Harrod, Environmental Assistance Division (7408), Office of Pollution Prevention and Toxics, Environmental Protection Agency, Ariel Rios Bldg., 1200 Pennsylvania Ave., NW., Washington, DC 20460; telephone: (202) 260-6904 and FAX: (202) 260-2219; e-mail: harrod.darlene@epamail.epa.gov.

SUPPLEMENTARY INFORMATION:

I. Does this Action Apply to Me?

This action is directed to the public in general. All parties interested in FOSTTA and hearing more about the perspectives of the States and Tribes on EPA programs and the information exchange regarding important issues related to human health and environmental exposure to toxics are invited and encouraged to attend. The public is encouraged to attend the proceedings as observers. However, in the interest of time and efficiency, the meetings are structured to provide maximum opportunity for state, tribal, and EPA participants to discuss items on the predetermined agenda. At the discretion of the chair of the project, an effort will be made to accomodate participation by observers attending the proceedings.

II. How Can I Get Additional Information, Including Copies of this document and Other Related Documents?

1. Electronically. You may obtain electronic copies of the minutes, and certain other related documents that might be available electronically, from the NCSL Web site at http://www.ncsl.org/programs/esnr/fostta/fostta.htm. To access this document on the EPA Internet Home Page go to http://www.epa.gov and select “Laws and Regulations” and then look up the entry for this document under the “Federal Register Environmental Documents.” You can also go directly to the Federal Register listings at http://www.epa.gov/fedrgstr/FOSTTA.

2. Facsimile. Notify the contacts listed above if you would like any of the documents sent to you via fax.

III. Purpose of Meeting

Tentative Agenda Items Identified by NCSL, the States, and the Tribes:

1. NCSL State-Tribal Relationships Project.

2. Panel Discussion on Environmental Justice Issues.

3. Environmental Council of the States Cross Media Initiative for 2000.

4. Subsistence Food Assessment Project.

5. Emergency Planning and Community Right-to-Know National Meeting.

6. Interagency Work Group on Lead.

7. Other topics as appropriate.

List of Subjects

Environmental protection.

Dated: February 15, 2000.
Joseph S. Carra,
Director, Environmental Assistance Division, Office of Pollution Prevention and Toxics.

[FR Doc. 00-4241 Filed 2-22-00; 8:45 am]

BILLING CODE 6560-50-F